DEPARTMENT OF THE INTERIOR

Bureau of Indian Affairs

48 CFR Chapter 14

RIN 1076-AE95

Tribal Consultation on Draft Buy Indian Act Regulations

AGENCY: Bureau of Indian Affairs, Interior.

ACTION: Notice of tribal consultation meetings.

SUMMARY: Indian Affairs will conduct consultation meetings with Indian tribes to obtain oral and written comments concerning draft regulations to implement the Buy Indian Act. See the SUPPLEMENTARY INFORMATION section of this notice for details.

DATES: The tribal consultation meetings will take place on Monday, April 26, 2010; Wednesday, April 28, 2010; and Friday, April 30, 2010.

FOR FURTHER INFORMATION CONTACT: Kathy Daum, Director, Indian Affairs, Office of Acquisition and Property Management (OAPM), 2051 Mercator Drive, Reston, VA 20191; Telephone: (703) 390-6460; Fax: (703) 390-6582; E-mail: kathy.daum@bia.gov.

SUPPLEMENTARY INFORMATION:

I. Background

Indian Affairs is developing a rule to guide implementation of the Buy Indian Act, 25 U.S.C. 47, which provides authority to set aside procurement contracts for qualified Indian-owned businesses. The rule will supplement the Federal Acquisition Regulation (FAR) and the Department of the Interior Acquisition Regulations (DIAR). Indian Affairs is developing the rule to describe uniform administrative procedures that Indian Affairs will use in all of its locations to encourage procurement relationships with eligible Indian economic enterprises in the execution of the Buy Indian Act. The draft rule being developed includes revisions to address the input received as a result of earlier publications in the Federal Register soliciting comment and consultation hearings in Indian Country. Indian Affairs reviewed all comments received to date, addressed them in succeeding draft versions, and incorporated them into the current draft version of the rule, where applicable. A consultation booklet containing the current draft version of the rule will be distributed to federally recognized Indian tribes and BIA regional and agency offices and will be available at the meetings.

II. Meeting Details

Tribal consultation meetings will be held at the following dates and locations:

Date | Time | Location
Monday, April 26, 2010 | 9 a.m.-5 p.m | Holiday Inn Portland Airport, 8439 NE Columbia Blvd., Portland, OR 97220, (503) 914-5251.
Wednesday, April 28, 2010 | 9 a.m.-5 p.m | Holiday Inn Rushmore Plaza 505, North Fifth Street, Rapid City, SD 57701, (605) 348-8000.
Friday, April 30, 2010 | 9 a.m.-5 p.m | Tulsa Marriott Southern Hills, 1902 East 71st, Tulsa, OK 74136, (918) 493-7000.

Dated: March 18, 2010.
Larry Echo Hawk,
Assistant Secretary—Indian Affairs.

[FR Doc. 2010-6742 Filed 3-25-10; 8:45 am]

BILLING CODE 4310-02-P